DEPARTMENT OF ENERGY

Federal Energy Regulatory Commission

Combined Notice of Filings #1

Take notice that the Commission received the following electric rate filings:

Docket Numbers: ER18-2390-000.

Applicants: Chubu TT Energy Management Inc.

Description: Tariff Cancellation: Chubu TT MBRA Cancellation to be effective 9/30/2018.

Filed Date: 9/7/18.

Accession Number: 20180907-5001.

Comments Due: 5 p.m. ET 9/28/18.

Docket Numbers: ER18-2391-000.

Applicants: PJM Interconnection, L.L.C.

Description: Tariff Cancellation: Notice of Cancellation of WMPA SA No. 3688; Queue No. Y2-117 to be effective 10/1/2018.

Filed Date: 9/7/18.

Accession Number: 20180907-5031.

Comments Due: 5 p.m. ET 9/28/18.

Docket Numbers: ER18-2392-000.

Applicants: Ohio Power Company, AEP Ohio Transmission Company, Inc., PJM Interconnection, L.L.C.

Description: § 205(d) Rate Filing: AEP Ohio submits revised ILDSA, Service Agreement No. 1420 and City of Clyde FA to be effective 8/14/2018.

Filed Date: 9/7/18.

Accession Number: 20180907-5037.

Comments Due: 5 p.m. ET 9/28/18.

Docket Numbers: ER18-2393-000.

Applicants: Mid-Atlantic Interstate Transmission, LLC, PJM Interconnection, L.L.C.

Description: § 205(d) Rate Filing: MAIT submits four ECSAs, Service Agreement Nos. 4991, 5017, 5018, and 5026 to be effective 11/7/2018.

Filed Date: 9/7/18.

Accession Number: 20180907-5056.

Comments Due: 5 p.m. ET 9/28/18.

Docket Numbers: ER18-2394-000.

Applicants: ISO New England Inc., New England Power Pool Participants Committee.

Description: Compliance filing: Revisions to ISO-NE Tariff in Compliance with FERC Order No. 844 to be effective 1/1/2019.

Filed Date: 9/7/18.

Accession Number: 20180907-5067.

Comments Due: 5 p.m. ET 9/28/18.

Docket Numbers: ER18-2395-000.

Applicants: PJM Interconnection, L.L.C.

Description: § 205(d) Rate Filing: Original ISA SA No. 5159, Queue No. AB2-040 to be effective 8/8/2018.

Filed Date: 9/7/18.

Accession Number: 20180907-5080.

Comments Due: 5 p.m. ET 9/28/18.

Docket Numbers: ER18-2396-000.

Applicants: Nevada Power Company.

Description: § 205(d) Rate Filing: Rate Schedule No. 162 NPC/DesertLink Agr. to be effective 9/8/2018.

Filed Date: 9/7/18.

Accession Number: 20180907-5083.

Comments Due: 5 p.m. ET 9/28/18.

Docket Numbers: ER18-2397-000.

Applicants: Midcontinent Independent System Operator, Inc.

Description: Compliance filing: 2018-09-07_Order 844 Compliance Uplift Cost Allocation and Transparency to be effective 1/1/2019.

Filed Date: 9/7/18.

Accession Number: 20180907-5085.

Comments Due: 5 p.m. ET 9/28/18.

Take notice that the Commission received the following electric reliability filings:

Docket Numbers: RD18-8-000.

Applicants: North American Electric Reliability Corporation.

Description: Petition of the North American Electric Reliability Corporation for Approval of Proposed Reliability Standard VAR-001-5.

Filed Date: 9/6/18.

Accession Number: 20180906-5137.

Comments Due: 5 p.m. ET 9/27/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 7, 2018.
Nathaniel J. Davis, Sr.,
Deputy Secretary.

[FR Doc. 2018-19995 Filed 9-13-18; 8:45 am]

BILLING CODE 6717-01-P